INTERNATIONAL TRADE COMMISSION

[Investigation No. 337-TA-690]

In the Matter of Certain Printing and Imaging Devices and Components Thereof; Notice of Commission Final Determination of No Violation of Section 337; Termination of the Investigation

AGENCY: U.S. International Trade Commission.

ACTION: Notice.

SUMMARY: Notice is hereby given that the U.S. International Trade Commission has determined that no violation of section 337 occurred in the above-captioned investigation.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on October 26, 2009, based on a complaint filed by Ricoh Company, Ltd. of Tokyo, Japan; Ricoh Americas Corporation of West Caldwell, New Jersey; and Ricoh Electronics, Inc. of Tustin, California (collectively “Ricoh”). 74 FR 55065 (Oct. 26, 2009). The complaint alleged, inter alia, violations of section 337 in the importation into the United States, the sale for importation, and the sale within the United States after importation of certain printing and imaging devices and components thereof by reason of infringement of U.S. Patent Nos. 6,209,048 (“the `048 patent”); 6,212,343 (“the `343 patent”); 6,388,771 (“the `771 patent”); 5,764,866 (“the `866 patent); and 5,863,690 (“the `690 patent”). The complaint named Oki Data Corporation of Tokyo, Japan and Oki Data Americas, Inc. of Mount Laurel, New Jersey (collectively “Oki”) as respondents.

On September 23, 2010, the presiding administrative law judge (“ALJ”) issued his final initial determination (“ID”) finding that Oki violated section 337 in the importation into the United States, the sale for importation, and the sale within the United States after importation of certain printing and imaging devices and components thereof by reason of infringement of several claims in the `690 patent. The ALJ found that Oki has not violated section 337 with respect to the `048, `343, `771, and `866 patents.

On November 22, 2010, the Commission determined to review the ALJ's ID in part as to the `343 and `690 patents. The Commission asked for, and received, briefing on the issues under review as well as on remedy, the public interest, and bonding.

Having examined the record of this investigation, including the ALJ's final ID and all the written submissions, the Commission has determined to affirm the ALJ's finding that no section 337 violation occurred with respect to the `343 patent, but reverse his finding that a violation occurred with respect to the `690 patent. As to both the `343 and `690 patents, the Commission has determined to reverse the ALJ's finding that Ricoh satisfied the economic prong of the domestic industry requirement of section 337(a)(3), 19 U.S.C. 1337(a)(3). As to the `343 patent, the Commission has determined to modify the ALJ's construction of “a lower edge” and affirm, on modified grounds, his findings that (1) Oki does not infringe the asserted claims of the `343 patent and (2) Ricoh does not meet the technical prong of the domestic industry requirement. As to the `690 patent, the Commission has determined to reverse the ALJ's finding that claims 1, 5, 9, and 13 of the `690 patent are not anticipated by the prior art. The Commission has determined to deny the outstanding request for oral argument, filed on December 23, 2010, as moot. The investigation is terminated.

The authority for the Commission's determination is contained in section 337 of the Tariff Act of 1930, as amended (19 U.S.C. 1337), and in sections 210.42-50 of the Commission's Rules of Practice and Procedure (19 CFR 210.42-50).

By order of the Commission.
Issued: January 25, 2011.
Marilyn R. Abbott,
Secretary to the Commission.

[FR Doc. 2011-1981 Filed 1-28-11; 8:45 am]

BILLING CODE 7020-02-P